DEPARTMENT OF COMMERCE

International Trade Administration

[A-588-835]

Fifth Administrative Review of Oil Country Tubular Goods From Japan: Rescission of Antidumping Duty Administrative Review

AGENCY: Import Administration, International Trade Administration, U.S. Department of Commerce.

ACTION: Notice of rescission of the antidumping duty administrative review for the period August 1, 1999 through July 31, 2000.

SUMMARY: In accordance with 19 CFR 351.213(b)(1), the Department received a timely request from petitioner U.S. Steel Group, a unit of USX Corporation, to conduct an administrative review of the sales of Sumitomo Metal Industries. On September 29, 2000, the Department initiated an administrative review of the antidumping duty order on oil country tubular goods (OCTG) for the period of review (POR) of August 1, 1999 to July 31, 2000. Because the interested party has withdrawn its request for review, the Department is rescinding this review in accordance with 19 CFR 351.213(d)(1).

EFFECTIVE DATE: August 27, 2001.

FOR FURTHER INFORMATION CONTACT: Doug Campau, Holly Hawkins, or Maureen Flannery at Enforcement Group III, Office 7, Import Administration, International Trade Administration, U.S. Department of Commerce, 1401 Constitution Avenue, NW., Washington, DC 20230; telephone: 202-482-1395, 202-482-0414, and (202) 482-3020 respectively.

SUPPLEMENTARY INFORMATION:

Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR Part 351 (2000).

Background

On August 31, 2000, the Department received a timely request from petitioner U.S. Steel Group that we conduct an administrative review of the sales of Sumitomo Metal Industries. On September 29, 2000, the Department initiated an administrative review of the antidumping duty order on oil country tubular goods (OCTG) for the period of review (POR) of August 1, 1999 to July 31, 2000, in order to determine whether merchandise imported into the United States is being sold at dumped prices. On October 2, 2000, the Department published a notice of initiation of the antidumping administrative review on OCTG from Japan, in accordance with 19 CFR 351.221(c)(1)(i). See Initiation of Antidumping and Countervailing Duty Administrative Reviews, 65 FR 58733 (October 2, 2000). On May 17, 2001, petitioner U.S. Steel Group withdrew its request for review. On August 3, 2001, we distributed a memorandum which notified interested parties for our intent to rescind this review. We received no comments. See Memorandum to Barbara E. Tillman from Holly Hawkins: Oil Country Tubular Goods (OCTG) from Japan: Intent to Rescind Administrative Review.

Rescission of Review

Pursuant to our regulations, the Department will rescind an administrative review, “if a party that requested the review withdraws the request within 90 days of the date of publication of notice of initiation of the requested review.” See 19 CFR 351.213(d)(1). This section further provides that the Secretary may extend this time limit if the Secretary decides that it is reasonable to do so. See 19 CFR 351.213(d)(1). Although the interested party's withdrawal of its request for review was not within the 90-day time limit, there were no objections to the withdrawal from other interested parties, and the Department has no compelling reason to deny the request. As a result, we are rescinding this administrative review for the period August 1, 1999 through July 31, 2000. The Department will issue appropriate assessment instructions to the U.S. Customs Service.

Dated: August 20, 2001.
Joseph A. Spetrini,
Deputy Assistant Secretary, Enforcement Group III.

[FR Doc. 01-21607 Filed 8-24-01; 8:45 am]

BILLING CODE 3510-DS-P